NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before October 28, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Larry Baume, Acting Director, Life Cycle Management Division (NWML), National Archives and Records Administration, 8601 Adelphi Road, College Park, MD 20740-6001. Telephone: 301-837-1505. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Office of the Secretary (N1-16-02-1, 3 items, 2 temporary items). Records accumulated by the Office of the Under Secretary for Food Safety, 1997-2001, that pertain toY2K conversion activities. Also included are electronic copies of documents created using electronic mail and word processing that are associated with the these files and with the other records accumulated by the Office. Proposed for permanent retention are recordkeeping copies of speeches, weekly reports to the Secretary, strategic plan briefing books, and correspondence.

2. Department of the Army, Agency-wide (N1-AU-02-20, 2 items, 2 temporary items). Records relating to the sanitization/destruction of Department of Defense computer hard drives, including electronic copies of documents created using electronic mail and word processing. The schedule authorizes the agency to apply the proposed disposition instructions to any recordkeeping medium.

3. Department of the Army, Agency-wide (N1-AU-02-25, 2 items, 2 temporary items). Records relating to the retention of military personnel consisting of packets of enlistment, reenlistment, or transfer forms. Also included are electronic copies of documents created using electronic mail and word processing. This schedule authorizes the agency to apply the proposed disposition instructions to any recordkeeping medium.

4. Department of Defense, Defense Commissary Agency (N1-506-02-5, 19 items, 19 temporary items). Records relating to management improvement studies. Included are such records as project working files, preliminary planning documents, management improvement proposals, program briefing and presentation materials, quality performance measures, and employee suggestion program guidelines. Also included are electronic copies of documents created using electronic mail and word processing. This schedule authorizes the agency to apply the proposed disposition instructions to any recordkeeping medium.

5. Department of Defense, Defense Commissary Agency (N1-506-02-7, 23 items, 23 temporary items). Records relating to the acquisition, construction, maintenance, management, and disposition of real property. Included are records relating to such matters as planning, design and construction, maintenance, space utilization reviews, and environmental policy issues. Also included are electronic copies of documents created using electronic mail and word processing. This schedule authorizes the agency to apply the proposed disposition instructions to any recordkeeping medium.

6. Department of Defense, Defense Information Systems Agency (N1-371-02-5, 4 items, 2 temporary items). Electronic copies of documents created using electronic mail and word processing that relate to posters and audiovisual products. Recordkeeping copies of mission-related posters and related documentation are proposed for permanent retention.

7. Department of Interior, U.S. Geological Survey (N1-57-02-3, 49 items, 48 temporary items). Records relating to information services, legal and congressional matters, and budget preparation, presentation, and apportionment. Records pertain to such matters as public briefings, community relations, public ceremonies, litigation, claims, law enforcement, speeches, legislation, abandoned patents, invention disclosures, certification of copies of records, agreements, audits, the preparation of budget estimates and justifications, financial management, collection procedures, and the use of Government credit cards. Also included are electronic copies of records created using electronic mail, spreadsheet, and word processing applications. Proposed for permanent retention are recordkeeping copies of files relating to legislative proposals.

8. Department of Transportation, U.S. Maritime Commission (N1-178-99-1, 107 items, 75 temporary items). Records of the U.S. Maritime Commission, which was terminated in 1950. Records date primarily from 1936-1950 but files include some earlier records as well as some files accumulated after 1950. Records relate to such matters as resolution of insurance claims, applications for subsidies, foreign freight tariffs, ship operating costs, ship maintenance and repair costs, and shipyard lab as well as routine administrative and program subject files. Proposed for permanent retention are such records as the Chairman's subject files, Commissioners' files, regulatory dockets, minutes of the Price Adjustment Board, U.S. Shipping Board files, and legal opinions.

9. Department of Transportation, Maritime Administration (N1-357-99-1, 98 items, 65 temporary items). Records relating to such matters as subsidy rates, seamen's rest centers, insurance claims, auditing, and ship valuation as well as routine administrative and program subject files. Some of these files were accumulated by the U.S. Maritime Commission. Proposed for permanent retention are such records as the Administrator's correspondence and subject files, files of the Special Assistant to the Administrator, records of the President's Maritime Advisory Committee and the National Maritime Council, research and development files, legal opinions, and records pertaining to international conferences.

10. Department of the Treasury, Office of the Secretary (N1-56-01-9, 8 items, 6 temporary items). Records of the Office of Public Affairs including scheduling proposals, briefing files, public appearance files, and operational records relating to public education projects. Also included are electronic copies of documents created using electronic mail and word processing. Recordkeeping copies of biographical sketches and portraits of high level officials and substantive documentation relating to public education campaigns are proposed for permanent retention.

11. Administrative Office of the U.S. Courts, Office of Judges Programs (N1-116-02-1, 8 items, 7 temporary items). Official personnel files of Bankruptcy, Magistrate, and Court of Federal Claims judges, Judicial Retirement System Participant and Annuitant files, and Judicial Survivors Annuities System Participant and Revocation files. Records relate to such matters as appointments and other personnel actions, insurance status, leave records, applications for annuities, health benefits, and salary payments. Also included are electronic copies of documents created using electronic mail and word processing. Recordkeeping copies of Official Personnel Files of Supreme Court justices, Appellate Court judges, District Court judges, and Territorial Judges are proposed for permanent retention.

12. Consumer Product Safety Commission, Office of Compliance (N1-424-02-1, 3 items, 3 temporary items). Manufacturer reports regarding civil litigation concerning products. Also included are electronic copies of documents created using electronic mail and word processing.

Dated: August 30, 2002.
Michael J. Kurtz,
Assistant Archivist for Record Services—Washington, DC.

[FR Doc. 02-23350 Filed 9-12-02; 8:45 am]

BILLING CODE 7515-01-P